Proclamation 10413 of May 31, 2022

National Ocean Month, 2022

By the President of the United States of America

A Proclamation

From the air we breathe to the food we eat, our magnificent ocean touches every aspect of our lives. It helps regulate the climate, supports millions of jobs, and serves as a place for exploration, commerce, and recreation. As it sustains and connects us, the ocean is woven into the cultures of local and Indigenous coastal and island communities. During National Ocean Month, we celebrate the beauty and bounty of our ocean and reaffirm our commitment to protecting and conserving our marine environments for a sustainable future.

Fifty years ago, our Nation enacted laws that created a robust foundation for environmental protection: the Clean Water Act, the Coastal Zone Management Act, the Marine Mammal Protection Act, and the National Marine Sanctuaries Act. Through these laws, we have protected our coastlines, safeguarded marine wildlife, sustained fisheries, and improved water quality. Today, the United States is a global leader in protecting and using precious marine resources in a responsible and sustainable way—but there is still more work to be done.

Earlier this year, my Administration released a sobering report on sea level rise caused by climate change. Addressing this issue requires collaboration and commitment. Working with State, Tribal, Territorial, and local partners, we will co-develop ocean-based climate solutions, including the United States Ocean-Climate Action Plan, which will help us mitigate and adapt to the effects of the climate crisis. To guide our understanding of the ocean, coasts, and climate change, we must also invest in science and solutions that recognize and elevate Indigenous and local knowledge.

The Bipartisan Infrastructure Law is a critical step forward in providing resources to enhance ocean and coastal observation, mapping, and forecasting—tools that will greatly improve the resilience of our coastal infrastructure and shorelines. The Natural Capital Accounts and National Nature Assessment I announced on Earth Day will also help us understand the ocean's value to our economy, health, climate, and national security. My Administration is developing a National Ocean Plan to develop the ocean economy and create good-paying American jobs while protecting vital marine ecosystems. Toward that aim, we are already deploying offshore wind energy and joining international initiatives to manage the planet's ocean equitably and sustainably.

We are also working to restore coastal habitats and ecosystems with nature-based solutions that protect coastal communities from flooding and storms. These investments go hand-in-hand with my Administration's America the Beautiful Initiative, which set a national goal to voluntarily conserve and restore at least 30 percent of United States lands and waters by 2030.

In taking these steps, we recognize that access to our ocean and its benefits have not always been equally distributed. Communities of color, Indigenous communities, and low-income communities have often been shut out from ocean-related opportunities while shouldering disproportionate climate burdens. My Administration is committed to delivering climate justice, expanding access to ocean opportunities, and diversifying ocean workforces.

During National Ocean Month, as we celebrate the beauty and power of our ocean, let us remember our shared responsibility to protect and preserve it. Together, let us recommit to caring for our ocean and enhancing its economic and ecological sustainability for generations to come.

NOW, THEREFORE, I, JOSEPH R. BIDEN JR., President of the United States of America, by virtue of the authority vested in me by the Constitution and the laws of the United States, do hereby proclaim June 2022 as National Ocean Month. I call upon Americans to take action to protect, conserve, and restore our ocean and coasts.

IN WITNESS WHEREOF, I have hereunto set my hand this thirty-first day of May, in the year of our Lord two thousand twenty-two, and of the Independence of the United States of America the two hundred and forty-sixth.

[FR Doc. 2022-12129

Filed 6-2-22; 8:45 am]

Billing code 3395-F2-P